DEPARTMENT OF LABOR

Agency Information Collection Activities; Submission for OMB Review; Comment Request; Workforce Innovation and Opportunity Act (WIOA) Implementation Study

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, DOL is soliciting comments concerning the collection of site visit data for a study of the implementation of the Workforce Innovation and Opportunity Act (WIOA). A copy of the proposed Information Collection Request (ICR) can be obtained by contacting the office listed below in the addressee section of this notice.

DATES: Written comments must be submitted to the office listed in the addressee section below on or before January 29, 2018.

ADDRESSES: You may submit comments by either one of the following methods:

Email: ChiefEvaluationOffice@dol.gov; Mail or Courier: Janet Javar, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Janet Javar by email at ChiefEvaluationOffice@dol.gov.

SUPPLEMENTARY INFORMATION:

I. Background: WIOA, signed into law on July 22, 2014, authorized and amended a series of employment and educational programs under five titles. DOL seeks to understand how the implementation of WIOA is changing the core workforce programs authorized under Title I (Adult, Dislocated Worker, and Youth programs) and the Employment Service program authorized under the Wagner-Peyser Act and amended by Title III, as well as how the implementation is contributing to more integration with stakeholders in programs authorized under Titles II (Adult Education and Literacy) and IV (Vocational Rehabilitation).

DOL is funding a study to document and describe how critical state-level activities under WIOA are being implemented and identify possible areas for which further technical assistance, guidance, or policies might be needed in order to help implement the law. The study's major research questions are: (1) How are the critical reforms under WIOA related to the core workforce programs for Title I and III being implemented? (2) to what extent is WIOA's vision for an integrated workforce system being achieved through state- and local-level synergies between Titles I and III and Titles II and IV stakeholders? and (3) what changes or supplemental technical assistance, guidance, or policy would be helpful to states administering the core programs and in providing guidance and oversight to the local level to improve service quality and management?

This Federal Register Notice provides the opportunity to comment on the proposed data collection instruments for the semi-structured interviews that will be used during site visits to support the implementation study. Site visits will be conducted in 14 states and two local areas per state and will include semi-structured interviews with state and local area program staff to document WIOA implementation. The state and local area program staffs who will be interviewed include workforce board staffs; staffs responsible for implementation of Titles I, II, III, and IV; state-level staffs in charge of Unemployment Insurance (UI) program; other state- and local area-level partner staffs involved in WIOA implementation; as well as key American Job Center (AJC) operators and center management staffs. Each respondent will be interviewed once on their experience with WIOA implementation. A future information collection request will include a national survey of state-level workforce administrators.

II. Desired Focus of Comments: Currently, DOL is soliciting comments concerning the above data collection for the WIOA implementation study. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, DOL is requesting clearance for the interview protocols to be used during the site visits.

Type of Review: New information collection request.

OMB Control Number: 1290-0NEW.

Affected Public: State and local program staff involved in WIOA implementation.

Estimated Total Burden Hours
Type of instrument | Total number respondents | Annual number of respondents | Number of responses per respondent | Average burden time per response (hours) | Annual estimated burden (hours) | Estimated total burden (hours)
State-Level Staff Interview
Workforce board | 42 | 14 | 1 | 1.2 | 16.3 | 49
Title I Adult and Dislocated Worker program | 70 | 23 | 1 | 1.3 | 30.3 | 91
Title I Youth program | 14 | 5 | 1 | 1.0 | 4.7 | 14
Title II (Adult Education and Literacy) and IV (Vocational Rehabilitation) | 84 | 28 | 1 | 1.3 | 37.3 | 112 | Title III (Employment Service Program) | 42 | 14 | 1 | 1.3 | 18.7 | 56
Unemployment Insurance | 14 | 5 | 1 | 1.5 | 7.0 | 21
Other state partner | 14 | 5 | 1 | 1.5 | 7.0 | 21
Local-Level Staff Interview
Workforce board | 112 | 37 | 1 | 1.2 | 43.7 | 131
Title I Adult and Dislocated Worker program | 56 | 19 | 1 | 1.0 | 18.7 | 56
Title I Youth program | 56 | 19 | 1 | 1.0 | 18.7 | 56
American Job Center Operator | 28 | 9 | 1 | 1.25 | 11.7 | 35
American Job Center Manager | 28 | 9 | 1 | 1.25 | 11.7 | 35
Title II (Adult Education and Literacy) and IV (Vocational Rehabilitation) | 112 | 37 | 1 | 1.5 | 56.0 | 168
Title III (Employment Service Program) | 56 | 19 | 1 | 1.0 | 18.7 | 56
Other local partner | 56 | 19 | 1 | 1.0 | 18.7 | 56
Total | 784 | 261 |  |  | 319 | 957

Comments submitted in response to this request will be summarized and/or included in the request for Office of Management and Budget approval of the information collection request; they will also become a matter of public record.

Dated: November 15, 2017.
Molly Irwin,
Chief Evaluation Officer, U.S. Department of Labor.

[FR Doc. 2017-25833 Filed 11-29-17; 8:45 am]

BILLING CODE 4510-HX-P